ENVIRONMENTAL PROTECTION AGENCY

40 CFR Part 52

[EPA-R06-OAR-2022-0307; FRL-10892-03-R6]

Air Plan Approval; Texas; Updates to Public Notice and Procedural Rules and Removal of Obsolete Provisions

AGENCY: Environmental Protection Agency (EPA).

ACTION: Final rule; correction.

SUMMARY: The Environmental Protection Agency (EPA) is correcting a final rule that appeared in the Federal Register on August 24, 2023. The document issued a final rule approving portions of three revisions to the Texas State Implementation Plan (SIP) submitted by the Texas Commission on Environmental Quality (TCEQ) on July 9, 2021, and January 21, 2022, that update the air permitting program by removing obsolete provisions and enhancing public notice requirements of the air permitting program. This correction addresses errors in the amendatory language instructions published on August 24, 2023.

DATES: This rule is effective on September 25, 2023.

FOR FURTHER INFORMATION CONTACT: Adina Wiley, EPA Region 6 Office, Air Permits Section, 214-665-2115, wiley.adina@epa.gov. Please call or email the contact listed above if you need alternative access to material indexed but not provided in the docket.

SUPPLEMENTARY INFORMATION: In FR Doc. 2023-17945 appearing in the Federal Register on Thursday, August 24, 2023, the following corrections are made:

§ 52.2270 [Corrected]

1. On page 57884, in the third column, in amendment 2, the instruction (i) is corrected to read “Revising the entries for Sections 39.405, 39.411, 39.412, 39.418, 39.419, 39.420, 39.601, 39.602, 39.603, 39.604, 55.154, 55.156, 101.306, 116.111, 116.112, 116.164, 116.196, 116.198, 116.310, 116.611, 116.615, 116.910, 116.911, 116.912, 116.916, 116.917, 116.918, 116.920, 116.930, and 116.1530.

2. On page 57885, in the third column, in amendment 2, instruction (iii) is added to read “iii. Adding an entry for section 39.426” in numeric order under the headings Chapter 39—Public Notice; Subchapter H—Applicability and General Provisions.

Dated: September 18, 2023.
Earthea Nance,
Regional Administrator, Region 6.

[FR Doc. 2023-20666 Filed 9-22-23; 8:45 am]

BILLING CODE 6560-50-P